DEPARTMENT OF THE INTERIOR

Bureau of Indian Affairs

Job Placement and Training (Adult Vocational Training and Direct Employment)

AGENCY: Bureau of Indian Affairs, Interior.

ACTION: Notice of proposed renewal of information collection document.

SUMMARY: The Office of the Assistant Secretary-Indian Affairs is seeking comments on the renewal of the Job Placement and Training (Adult Vocational Training and Direct Employment) Information Collection. This action is being taken due to the impending expiration of the existing data collection. This action will allow the Department on-going collection of data required by statute, regulation and policy.

DATE: Submit comments on or before September 4, 2007.

ADDRESSES: Comments should be sent to Robert W. Middleton, Ph.D., Director, Office of Indian Energy and Economic Development, either by facsimile at (202) 208-4564, or by mail to 1951 Constitution Avenue, NW., Mailstop 20-SIB, Washington, DC 20245.

FOR FURTHER INFORMATION CONTACT: You may request further information or obtain copies of the proposed information collection request from Lynn Forcia, Chief, Division of Workforce Development, telephone (202) 219-5270 or Jody Garrison, Manpower Development Specialist on (202) 208-2685.

SUPPLEMENTARY INFORMATION: The information collection is necessary to be in compliance with 25 CFR parts 26 and 27 and 25 U.S.C. 309 (Pub. L. 84-959 of 1956). The information is used to make determinations of eligibility for services provided by the Department's Job Placement and Training Program (Adult Vocational Training Program). Data collection allows us to ensure uniformity of services, and to ensure current, accurate records, comply with the Government Performance Results Act (GPRA) and provide sufficient data for Performance Assessment Rating Tool (PART) evaluations. All information collected is retained in an individual case record and is used for case management/case planning purposes by the service provider. Data collected will be retained for three years.

Request for Comments: The Department of the Interior requests your comments on this collection concerning:

(a) The necessity of this information collection for the proper performance of the functions of the agency, including whether the information will have practical utility;

(b) The accuracy of the agency's estimate of the burden (hours and cost) of the collection of information, including the validity of the methodology and assumptions used;

(c) Ways we could enhance the quality, utility and clarity of the information to be collected; and

(d) Ways we could minimize the burden of the collection of the information on the respondents, such as through the use of automated collection techniques or other forms of information technology.

Please note that an agency may not sponsor or request and an individual need not respond to, a collection of information unless it has a valid OMB Control Number.

It is our policy to make all comments available to the public for review at the location listed in the ADDRESSES section, room 18, South Interior Building, during the hours of 8 a.m. 5 p.m., EST Monday through Friday except for legal holidays. Before including your address, phone number, e-mail address, or other personal identifying information in your comment, be advised that your entire comment—including your personal identifying information—may be made publicly available at any time. While you can ask us in your comment to withhold from public review your personal identifying information, we cannot guarantee that we will be able to do so. All comments from organizations or representatives will be available for review. We may withhold comments from review for other reasons.

OMB Control Number: 1076-0062.

Type of review: Renewal.

Title: 25 CFR parts 26 and 27.

Brief Description of Collection: Data Collection using this form is submitted voluntarily to obtain or retain a benefit; namely, vocational training.

Respondents: Individuals seeking financial assistance for Adult vocational training, job placement and related supportive services in accordance with 25 CFR part 26 and part 27 complete this data collection instrument.

Number of Respondents: 4,900.

Estimated Time per Response: We estimate one-half hour to complete the form for each applicant.

Frequency of Response: Each applicant will complete the form one time, upon application for benefits.

Total Annual Burden to Respondents: We estimate a total of 4,900 applicants in one year times one-half hour to complete the form equals total burden hours per year of 2,450 hours.

Dated: June 26, 2007.
Carl J. Artman,
Assistant Secretary—Indian Affairs.

[FR Doc. E7-13074 Filed 7-5-07; 8:45 am]

BILLING CODE 4310-40-P